DEPARTMENT OF COMMERCE

National Oceanic and Atmospheric Administration

[RTID 0648-XA914]

Marine Mammals; File No. 25498

AGENCY: National Marine Fisheries Service (NMFS), National Oceanic and Atmospheric Administration (NOAA), Commerce.

ACTION: Notice; receipt of application.

SUMMARY: Notice is hereby given that Titan Productions, Limited, 51-55 Whiteladies Road Bristol, BS8 2LY, United Kingdom (Responsible Party: Lucy Meadows), has applied in due form for a permit to conduct commercial or educational photography of California sea lions (Zalophus californianus), gray whales (Eschrichtius robustus), and killer whales (Orcinus orca).

DATES: Written, telefaxed, or email comments must be received on or before April 5, 2021.

ADDRESSES: These documents are available upon written request via email to NMFS.Pr1Comments@noaa.gov.

Written comments on this application should be submitted via email to NMFS.Pr1Comments@noaa.gov. Please include File No. 25498 in the subject line of the email comment.

Those individuals requesting a public hearing should submit a written request via email to NMFS.Pr1Comments@noaa.gov. The request should set forth the specific reasons why a hearing on this application would be appropriate.

FOR FURTHER INFORMATION CONTACT: Amy Hapeman or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216) and the Fur Seal Act of 1966, as amended (16 U.S.C. 1151 et seq.).

The applicant proposes to film the natural behaviors of California sea lions, gray whales, and killer whales as part of a wildlife documentary about the marine life along the Pacific Coast. Filmmakers would annually target up to 910 California sea lions in California, 408 gray whales in California, 1,200 killer whales in Alaska, and 405 killer whales in California. Filming would occur topside from the vessel, underwater, and via an unmanned aircraft system. Up to 200 bottlenose dolphins (Tursiops truncatus), 75 Dall's porpoise (Phocoenoides dalli), 60 harbor seals (Phoca vitulina), 200 short-beaked common dolphins (Delphinus delphis), 200 long-beaked common dolphins (Delphinus capensis), 60 Northern fur seals (Callorhinus ursinus), 250 Pacific white-side dolphins (Lagenorhynchus obliquidens), and 200 Risso's dolphins (Grampus griseus) could be unintentionally harassed annually during filming. The film will be part of a 10-episode natural history television series broadcast on a major subscription video on demand platform and will be accessible to audiences worldwide. To allow for scheduling changes, the permit would be valid until December 31, 2022.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 1, 2021.
Amy Sloan,
Acting Chief, Permits and Conservation Division, Office of Protected Resources, National Marine Fisheries Service.

[FR Doc. 2021-04562 Filed 3-4-21; 8:45 am]

BILLING CODE 3510-22-P